DEPARTMENT OF THE INTERIOR

[167A2100DD/AAKC001030/A0A501010.999900]

Office of the Assistant Secretary—Indian Affairs; School Facilities Construction List

AGENCY: Office of the Assistant Secretary—Indian Affairs, Interior.

ACTION: Notice.

SUMMARY: This notice announces that the Acting Assistant Secretary—Indian Affairs has selected 10 schools as the next set of schools eligible to receive funding to replace their school facilities.

FOR FURTHER INFORMATION CONTACT: Mr. Darrell LaRoche, Director, Office of Facilities, Property, and Safety Management, Office of the Assistant Secretary—Indian Affairs (703) 390-6314, darrell.laroche@bia.gov.

SUPPLEMENTARY INFORMATION: The No Child Left Behind (NCLB) School Facilities and Construction Negotiated Rule-Making Committee established the process and criteria for determining the priority in which the Department of the Interior would proceed with campus-wide school replacement. The criteria can be viewed at pages 37-41 of the Committee's Report, available here: http://www.bia.gov/cs/groups/xraca/documents/document/idc1-025523.pdf. In accordance with that process, the National Review Committee (NRC) (a committee of educators, facility and safety experts, representative from the Division of Facilities Management and Construction, and the Bureau of Indian Education) established that 78 Bureau of Indian Education funded schools were eligible to apply for replacement in this cycle. Of those 78 schools, 53 schools applied for consideration. The NRC reviewed the schools' applications using criteria identified in the NCLB report, scored each application using objective criteria, ranked them according to their numerical score, and identified the 10 highest scoring projects. Those schools were invited to present at a public hearing to show the condition of their school campuses and to answer questions.

For Fiscal Year (FY) 2016, the National Review Committee identified the 10 schools listed below and invited those schools to a present at a public meeting in February 2016, in Albuquerque, New Mexico. The Acting Assistant Secretary—Indian Affairs has determined that all 10 schools need to be replaced and, therefore, all 10 schools should be eligible for funding, as it becomes available through Congressional appropriations, in this cycle.

• Blackwater Community School

• Chichiltah/Jones Ranch Community School

• Crystal Boarding School

• Dzilth-Na-O-Dith-Hle Community School

• Greasewood Springs Community School

• Laguna Elementary School

• Lukachukai Community School

• Quileute Tribal School

• T'iis Nazbas Community School

• Tonalea (Red Lake) Day School

The selection of these 10 schools is based on criteria, such as the Facility Condition Index, and other measures outlined in the NCLB report. The Office of the Assistant Secretary—Indian Affairs will place these 10 in order of readiness based on when each school completes the planning process. Design and construction for these projects is contingent on the budget process.

Dated: August 21, 2016.
Lawrence S. Roberts,
Acting Assistant Secretary—Indian Affairs.

[FR Doc. 2016-10044 Filed 4-28-16; 8:45 am]

BILLING CODE 4310-W7-P